SMALL BUSINESS ADMINISTRATION

Region IV North Florida District Advisory Council; Public Meeting

The U.S. Small Business Administration (SBA) North Florida District Advisory Council located in Jacksonville, Florida, will host a public meeting at 12 p.m. e.s.t. on Wednesday, January 19, 2005 at the SBA North Florida District Office located at 7825 Baymeadows Way, Jacksonville, FL 32256, to discuss such matters that may be presented by members, and staff of the U.S. Small Business Administration, or others present. Anyone wishing to make an oral presentation to the Board must contact Wilfredo J. Gonzalez, District Director, in writing by letter or fax no later than Monday, January 3, 2005, in order to be placed on the agenda.

Contact information: Wilfredo J. Gonzalez, District Director, U.S. Small Business Administration, 7825 Baymeadows Way; Suite 100B, Jacksonville, FL 32256, Telephone (904) 443-1900, FAX (202) 481-4188.

Matthew K. Becker,
Committee Management Officer.

[FR Doc. 04-27831 Filed 12-20-04; 8:45 am]

BILLING CODE 8025-01-P